NATIONAL SCIENCE FOUNDATION

National Big Data R and D Initiative; Framework, Priorities, and Strategic Plan

AGENCY: The National Coordination Office (NCO) for Networking and Information Technology Research and Development (NITRD).

ACTION: Request for Input (RFI).

FOR FURTHER INFORMATION CONTACT: Wendy Wigen at 703-292-4873 or wigen@nitrd.gov. Individuals who use a telecommunications device for the deaf (TDD) may call the Federal Information Relay Service (FIRS) at 1-800-877-8339 between 8 a.m. and 8 p.m., Eastern time, Monday through Friday.

DATES: To be considered, written comments must be received by November 14, 2014.

SUMMARY: This request encourages feedback from multiple big data stakeholders to inform the development of a framework, set of priorities, and ultimately a strategic plan for the National Big Data R&D Initiative. A number of areas of interest have been identified by agency representatives in the Networking and Information Technology Research and Development (NITRD) Big Data Senior Steering Group (BDSSG) as well as the many members of the big data R&D community that have participated in BDSSG events and workshops over the past several years. This RFI is a critical step in developing a cross-agency strategic plan that has broad community input and that can be referenced by all Federal agencies as they move forward over the next five to ten years with their own big data R&D programs, policies, partnerships, and activities.

SUPPLEMENTARY INFORMATION:

Overview: This RFI is issued under the National Big Data R&D Initiative. The NITRD BDSSG is inviting broad community input as it develops a National Big Data R&D Strategic Plan that can be referenced by participating agencies as they conceive and deploy their own big data programs, policies, and activities.

Background: The BDSSG was initially formed to identify big data R&D activities across the Federal Government, offer opportunities for agency coordination, and jointly develop strategies for a national initiative. The National Big Data R&D Initiative was launched in March 2012.

Since the launch, the BDSSG has held numerous meetings and workshops, including a major showcase event of dozens of partnerships that will help advance the frontiers of big data R&D across the country. Many participating federal agencies have already established new big data programs, policies and activities and plan to do more in the future. Currently, the BDSSG is drafting a framework and establishing a set of priory goals for a National Big Data R&D Strategic Plan.

Objective: The major goal of this RFI is to gather information from multiple sectors to inform the development of an effective National Big Data R&D Strategic Plan. After the submission period ends and the feedback is analyzed, a workshop will be held to further discuss and develop the input received.

What We Are Looking For: As a big data stakeholder, we would like to (1) understand your particular role and point of view in the big data innovation ecosystem, and (2) using the draft, The National Big Data R&D Initiative: Vision and Areas of Interest, as the basis, encourage you to provide comments and suggestions for how we might best develop an overarching, comprehensive framework to support national-scale big data science and engineering research and education, discoveries and innovation. Please include a description of the areas of critical investment (either within or across agencies), both currently and within a five to ten year horizon. Collectively, your comments could focus on one or more agencies, the set of NITRD agencies as a whole, or the national effort. Please keep in mind that the focus is on high level strategies for how agencies can leverage their collective investments. It will not focus on individual agency plans and will not contain an implementation plan. We are interested in all points of view on the activities that can best support research, development, and innovation in Big Data. However, we are not interested in specific research proposals or vendor offerings. While the NITRD agencies would welcome input on policies that are directly relevant to big data R&D, those policies that are more appropriately determined by the Administration or Congress (or both) are not relevant to this exercise.

Who Can Participate: This RFI is open to all. We especially encourage public and private sector organizations (e.g., universities, government laboratories, companies, non-profits) with big data interests to submit their ideas. Participants must also be willing to have their ideas posted for discussion on a public Web site and included with possible attribution in the plan.

Submission Format: All responses must be no more than two (2) pages long (12 pt. font, 1″ margins) and include:

• Who you are—name, credentials, organization

• Your contact information

• Your experience working with big data and your role in the big data innovation ecosystem

• Comments and suggestions based on reading the initial framework, The National Big Data R&D Initiative: Vision and Priority Actions , and guided by the following questions:

• What are the gaps that are not addressed in the Visions and Priority Actions document?

• From an interagency perspective, what do you think are the most high impact ideas at the frontiers of big data research and development?

• What new research, education, and/or infrastructure investments do you think will be game-changing for the big data innovation ecosystem?

• How can the federal government most effectively enable new partnerships, particularly those that cross sectors or domains?

• A short explanation of why you feel your contribution/ideas should be included in the strategic plan

• Examples, where appropriate

In accordance with FAR 15.202(3), responses to this notice are not offers and cannot be accepted by the Government to form a binding contract. Responders are solely responsible for all expenses associated with responding to this RFI, including any subsequent requests for proposals.

Submitted by the National Science Foundation for the National Coordination Office (NCO) for Networking and Information Technology Research and Development (NITRD) on September 26, 2014.
Suzanne H. Plimpton,
Reports Clearance Officer, National Science Foundation.

[FR Doc. 2014-23444 Filed 10-1-14; 8:45 am]

BILLING CODE 7555-01-P